DEPARTMENT OF HEALTH AND HUMAN SERVICES

Administration for Children and Families

[CFDA Number: 93.676]

Announcement of the Award of 43 Single-Source Low-Cost Extension Supplement Grants Within the Office of Refugee Resettlement's Unaccompanied Alien Children's (UAC) Program

AGENCY: Office of Refugee Resettlement (ORR), Administration for Children and Families (ACF), Department of Health and Human Services (HHS).

ACTION: Notice of award of 43 single-source low-cost extension supplement grants under the Unaccompanied Alien Children's (UAC) Program.

SUMMARY: ACF, ORR, announces the award of 43 single-source low-cost extension supplement grants for a total of $34,847,803 under the Unaccompanied Alien Children's (UAC) Program.

DATES: Low-cost extension supplement grants will support activities from January 1, 2017 through January 31, 2017.

FOR FURTHER INFORMATION CONTACT: Jallyn Sualog, Director, Division of Unaccompanied Alien Children Operations, Office of Refugee Resettlement, 330 C Street SW., Washington, DC 20201. Phone: (202) 401-4997. Email: DCSProgram@acf.hhs.gov.

SUPPLEMENTARY INFORMATION: The following supplement grants will support the immediate need for additional capacity of shelter services to accommodate the increasing number of UACs referred by DHS into ORR care. The increase in the UAC population necessitates the need for expansion of services to expedite the release of UAC. In order to be prepared for an increase in referrals for shelter and post release/home studies services, ORR will solicit proposals from forty three grantees to accommodate the extensive amount of referrals from DHS.

Location | Grantee | Amount
U.S. Multi-City | BCFS Health and Human Services | $1,145,366.00
U.S. Multi-City | Southwest Key, Inc | 349,114.00
U.S. Multi-City | United States Conference of Catholic Bishops | 238,188.00
U.S. Multi-City | Crittenton | 100,522.00
| Children's Village | 96,438.00
U.S. Multi-City | MercyFirst | 41,171.00
U.S. Multi-City | United States Committee for Refugee and Immigrants | 530,760.00
U.S. Multi-City | His House, Inc | 24,414
U.S. Multi-City | Heartland | 111,211.00
U.S. Multi-City | Lutheran Immigration and Refugee Service | 270,959.00
Staunton, VA | Shenandoah | 330,255.00
Lincolndale, NY | Lincoln Hall | 1,280,435.00
San Antonio, TX | St. Peter-St. Joseph Children's Home | 574,485.00
Corpus Christi, TX | Upbring | 216,543.00
Chicago, IL | Heartland Human Care, Inc | 3,169,960.00
National | United Stated Conference of Catholic Bishops | 507,397.00
Mesa, AZ | A New Leaf | 248,248.00
La Verne, CA | David & Margaret | 518,699.00
Fullerton, CA | Florence Crittenton | 1,017,271.00
Manvel, TX | Shiloh | 429,079.00
Houston, TX | Catholic Charities Houston-Galveston | 563,040.00
Miami, FL | His House | 742,246.00
Corpus Christi, TX | Upbring | 2,004,628
U.S. Multi-City | BCFS Health and Human Services (102) | 8,156,483.00
National | Lutheran Immigration and Refugee Service | 1,450,002.00
Seattle, WA | Youth Care | 129,580.00
Portland, OR | Morrison Child and Family Services | 883,727.00
Phoenix, AZ | Tumbleweed Child and Family Services | 177,104.00
Philadelphia, PA | KidsPeace | 875,670.00
San Antonio, TX | BCFS Health and Human Services (110) | 159,870.00
San Antonio, TX | Seton Home | 275,474.00
Fairfield, CA | BCFS Health and Human Services (112) | 316,623.00
Bristow, VA | Youth for Tomorrow | 1,005,950.00
Woodland, CA | Yolo County | 235,636.00
Miami, FL | Catholic Charities Boystown | 442,406.00
San Antonio, TX | BCFS Health and Human Services (116) | 1,018,000.00
Bronx, NY | Cardinal McCloskey | 148,056.00
Syosset, NY | Mercy First | 515,025.00
Kingston, NY | Children's Home of Kingston | 146,681.00
New York, NY | Lutheran Social Services of Metropolitan New York | 369,231.00
New York, NY | Cayuga Home for Children DBA Cayuga Centers | 2,703,131.00
New York, NY | Catholic Guardian Services | 560,869.00
Yonkers, NY | Leake and Watts Services, Inc | 767,856.00

ORR has specific requirements for the provision of services. Award recipients must have the infrastructure, licensing, experience, and appropriate level of trained staff to meet those requirements. The expansion of the existing shelter services and post-release/home studies programs through this supplemental award is a key strategy for ORR to be prepared to meet its responsibility of safe and timely release of Unaccompanied Alien Children referred to its care by DHS and to provide services for vulnerable youth post release. This will allow the US Border Patrol to continue its vital national security mission to prevent illegal migration, trafficking, and protect the borders of the United States.

Statutory Authority: This program is authorized by—

(A) Section 462 of the Homeland Security Act of 2002, which in March 2003, transferred responsibility for the care and custody of Unaccompanied Alien Children from the Commissioner of the former Immigration and Naturalization Service (INS) to the Director of ORR of the Department of Health and Human Services (HHS).

(B) The Flores Settlement Agreement, Case No. CV85-4544RJK (C.D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996), pertinent regulations and ORR policies and procedures.

Christopher Beach,
Senior Grants Policy Specialist, Division of Grants Policy, Office of Administration, Administration for Children and Families.

[FR Doc. 2017-13081 Filed 6-22-17; 8:45 am]

BILLING CODE 4184-45-P